ENVIRONMENTAL PROTECTION AGENCY

[FRL-9916-29-OAR]

Clean Air Act Advisory Committee (CAAAC): Notice of Meeting

AGENCY: Environmental Protection Agency.

ACTION: Notice; meeting.

SUMMARY: The Environmental Protection Agency (EPA) announces upcoming public meetings of the Clean Air Act Advisory Committee (CAAAC). The EPA established the CAAAC on November 19, 1990, to provide independent advice and counsel to EPA on policy issues associated with implementation of the Clean Air Act of 1990. The Committee advises on economic, environmental, technical, scientific and enforcement policy issues.

DATES & ADDRESSES: Pursuant to 5 U.S.C. App. 2 Section 10(a)(2), notice is hereby given that the CAAAC will hold its next face-to-face meeting on October 29, 2014, tentatively from 8:30 a.m. to 4:00 p.m. at the Holiday Inn and Suites Alexandria, 625 First Street, Alexandria, VA 22314. The Permits, New Source Review and Toxics Subcommittee will meet at the same location on October 28, 2014, tentatively from 1:30 p.m. to 4:30 p.m.

Inspection of Committee Documents: The Committee agenda, confirmed times for the meetings, and any documents prepared for these meetings will be publicly available on the CAAAC Web site at http://www.epa.gov/oar/caaac/ prior to the meeting. Thereafter, these documents, together with CAAAC meeting minutes, will also be available on the CAAAC Web site or by contacting the Office of Air and Radiation Docket and requesting information under docket EPA-HQ-OAR-2004-0075. The Docket office can be reached by email at: a-and-r-Docket@epa.gov or FAX: 202-566-9744.

FOR FURTHER INFORMATION CONTACT: For more information about the CAAAC, please contact Jeneva Craig, Designated Federal Officer (DFO), Office of Air and Radiation, U.S. EPA by email at craig.jeneva@epa.gov or by telephone at (202) 564-1674 or, for information on the Permits, New Source Review and Toxics Subcommittee, please contact Alan Rush at rush.alan@epa.gov or (202) 564-1658. Additional information on these meetings, CAAAC, and its Subcommittees can be found on the CAAAC Web site: http://www.epa.gov/oar/caaac/.

For information on access or services for individuals with disabilities, please contact Jeneva Craig at (202) 564-1674 or craig.jeneva@epa.gov, preferably at least 10 days prior to the meetings to give EPA as much time as possible to process your request.

Dated: August 26, 2014.
Jeneva Craig,
Designated Federal Officer, Clean Air Act Advisory Committee, Office of Air and Radiation.

[FR Doc. 2014-21299 Filed 9-5-14; 8:45 am]

BILLING CODE 6560-50-P